DEPARTMENT OF ENERGY

Office of Environmental Management, Environmental Management Advisory Board; Renewal

Pursuant to Sectioin 14(a)(2)(A) of the Federal Advisory Committee Act (Public Law 92-463), and in accordance with Title 41 of the Code of Federal Regulations, section 102-3.65(a), and following consultation with the Committee Management Secretariat, General Services Administration, notice is hereby given that the Environmental Management Advisory Board has been renewed for a two-year period beginning on January 18, 2002. The Board will provide advice to the Assistant Secretary for Environmental Management.

The Board provides the Assistant Secretary for Environmental Management with information and strategic advice on corporate issues, with a focus on achieving closure of selected sites by 2006. It recommends options to resolve difficult issues faced in the Environmental Management program including; public and worker health and safety, integration and disposition of waste, regulatory agreements, roles and authorities, risk assessment and cost-benefit analyses, program performance and functionality, and science requirements and applications. Consensus recommendations to the Department of Energy from the Board on programmatic nationwide resolution of numerous difficult issues will help achieve the Department's objective of the safe and efficient cleanup of its contaminated sites.

Additionally, the renewal of the Environmental Management Advisory Board has been determined to be essential to the conduct of Department of Energy business and to be in the public interest in connection with the performance of duties imposed on the Department of Energy by law and agreement. The Board will operate in accordance with the provisions of the Federal Advisory Committee Act, and rules and regulations issued in implementation of those Acts.

Further information regarding this Advisory Board may be obtained from Ms. Rachel Samuel at (202) 586-3279.

Issued in Washington, DC, on January 17, 2002.
James N. Solit,
Advisory Committee Management Officer.

[FR Doc. 02-1746 Filed 1-23-02; 8:45 am]

BILLING CODE6450-01-M